DEPARTMENT OF TRANSPORTATION

Federal Aviation Administration

14 CFR Part 39

[Docket No. FAA-2012-0192; Directorate Identifier 2011-NM-225-AD; Amendment 39-17152; AD 2012-16-05]

RIN 2120-AA64

Airworthiness Directives; Airbus Airplanes

AGENCY: Federal Aviation Administration (FAA), Department of Transportation (DOT).

ACTION: Final rule.

SUMMARY: We are adopting a new airworthiness directive (AD) for certain Airbus Model A330-200 and -200 freighter series airplanes; and Model A340-200, -300, -500, and -600 series airplanes. This AD was prompted by fuel system reviews conducted by the manufacturer. This AD requires modification of the control circuit for the fuel pumps for the center fuel tanks for certain airplanes, and center and rear fuel tanks for certain other airplanes. We are issuing this AD to prevent the potential of ignition sources inside fuel tanks, which, in combination with flammable fuel vapors, could result in fuel tank explosions and consequent loss of the airplane.

DATES: This AD becomes effective September 18, 2012.

The Director of the Federal Register approved the incorporation by reference of certain publications listed in this AD as of September 18, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Vladimir Ulyanov, Aerospace Engineer, International Branch, ANM-116, Transport Airplane Directorate, FAA, 1601 Lind Avenue SW., Renton, WA 98057-3356; telephone 425-227-1138; fax 425-227-1149.

SUPPLEMENTARY INFORMATION:

Discussion

We issued a notice of proposed rulemaking (NPRM) to amend 14 CFR part 39 to include an AD that would apply to the specified products. That NPRM was published in the Federal Register on March 16, 2012 (77 FR 15644). That NPRM proposed to correct an unsafe condition for the specified products. The MCAI states:

* * * [T]he FAA issued a set of new rules related to Fuel Tank Safety including Special Federal Aviation Regulation (SFAR) 88. In line with SFAR88, the JAA [Joint Aviation Authorities] issued policy JAA INT/POL 25/12 and recommended to the National Aviation Authorities (NAA) the application of a similar regulation.

To ensure compliance with the requirements set by SFAR88 and JAA INT/POL 25/12, this [EASA] AD requires that Ground Fault Interrupters (GFI) are installed into the electrical power supply circuits of fuel pumps for which the canisters become uncovered during normal operation, taking into account normal fuel reserve or the fuel level, triggering the low fuel level warning.

The function of this additional system protection is to electrically isolate the pump if a ground fault condition occurs downstream of the GFI. The GFI gives additional earth leakage protection to the downstream circuit.

The unsafe condition is the potential of ignition sources inside fuel tanks, which, in combination with flammable fuel vapors, could result in fuel tank explosions and consequent loss of the airplane. The corrective action is modifying the control circuits of the fuel pump for the rear and center fuel tanks. You may obtain further information by examining the MCAI in the AD docket.

Comments

We gave the public the opportunity to participate in developing this AD. We received no comments on the NPRM (77 FR 15644, March 16, 2012) or on the determination of the cost to the public.

Changes to the AD

European Aviation Safety Agency (EASA) has issued AD 2011-0196, dated October 7, 2011, corrected March 23, 2012, to correct a typographical error in the applicability paragraph of the MCAI which changed the intent of the applicability. The exception to the applicability should have specified “or” instead of “and.” We have changed paragraph (c)(2) of this AD to add paragraphs (c)(2)(i) and (c)(2)(ii) to this AD to clarify the exception to the applicability of this AD.

Airbus has issued Mandatory Service Bulletins A330-28-3113, Revision 01, dated March 27, 2012 (for Model A330-200 and -200 freighter series airplanes); and A340-28-4129, Revision 01, dated March 27, 2012 (for Model A340-200 and -300 series airplanes); to include a test procedure for a certain ground fault interrupter. We have revised paragraphs (g) and (j) of this AD to reference Airbus Mandatory Service Bulletins A330-28-3113, Revision 01, dated March 27, 2012; and A340-28-4129, Revision 01, dated March 27, 2012. We have added paragraph (h) to this AD to allow credit for actions done in accordance with Airbus Mandatory Service Bulletins A330-28-3113, dated July 19, 2011; and A330-28-4129, dated July 19, 2011; we have revised subsequent paragraph identifiers accordingly.

Conclusion

We reviewed the available data and determined that air safety and the public interest require adopting the AD with the changes described previously and minor editorial changes. We have determined that these changes:

• Are consistent with the intent that was proposed in the NPRM (77 FR 15644, March 16, 2012) for correcting the unsafe condition; and

• Do not add any additional burden upon the public than was already proposed in the NPRM (77 FR 15644, March 16, 2012).

Costs of Compliance

We estimate that this AD will affect 29 products of U.S. registry. We also estimate that it will take about 10 work-hours per product to comply with the basic requirements of this AD. The average labor rate is $85 per work-hour. Required parts will cost about $3,480 per product. Where the service information lists required parts costs that are covered under warranty, we have assumed that there will be no charge for these parts. As we do not control warranty coverage for affected parties, some parties may incur costs higher than estimated here. Based on these figures, we estimate the cost of this AD to the U.S. operators to be $125,570 or $4,330 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 15644, March 16, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-16-05 Airbus: Amendment 39-17152. Docket No. FAA-2012-0192; Directorate Identifier 2011-NM-225-AD.

(a) Effective Date

This airworthiness directive (AD) becomes effective September 18, 2012.

(b) Affected ADs

None.

(c) Applicability

This AD applies to the airplanes specified in paragraphs (c)(1), (c)(2), and (c)(3) of this AD, certificated in any category.

(1) Airbus Model A330-201, -202, -203, -223, and -243 airplanes; all serial numbers; except those on which Airbus modification 200242 has been accomplished in production.

(2) Airbus Model A330-223F and -243F airplanes; all serial numbers; except airplanes identified in paragraph (c)(2)(i) or (c)(2)(ii) of this AD.

(i) Airplanes on which Airbus modification 58623 has been accomplished in production and on which Airbus modification 200281 has not been accomplished in production; or

(ii) Airplanes on which modification 200242 has been accomplished in production.

(3) Airbus Model A340-211, -212, -213, -311, -312, -313, -541, and -642 airplanes; all serial numbers; except airplanes on which Airbus modification 200242 has been accomplished in production.

(d) Subject

Air Transport Association (ATA) of America Code 28, Fuel.

(e) Reason

This AD was prompted by fuel system reviews conducted by the manufacturer. We are issuing this AD to prevent the potential of ignition sources inside fuel tanks, which, in combination with flammable fuel vapors, could result in fuel tank explosions and consequent loss of the airplane.

(f) Compliance

You are responsible for having the actions required by this AD performed within the compliance times specified, unless the actions have already been done.

(g) Actions

Within 48 months after the effective date of this AD, do the actions specified in paragraph (g)(1) or (g)(2) of this AD, as applicable.

(1) For Model A330-200 and -200F series airplanes, and Model A340-200 and -300 series airplanes: Modify the control circuit for the fuel pump for the center fuel tank, in accordance with the Accomplishment Instructions of Airbus Mandatory Service Bulletin A330-28-3113, Revision 01, dated March 27, 2012 (for Model A330-200 and -200 freighter series airplanes); or A340-28-4129, Revision 01, dated March 27, 2012 (for Model A340-200 and -300 series airplanes).

(2) For Model A340-500 and -600 series airplanes: Modify the control circuit for the fuel pump for the rear and/or center fuel tanks, in accordance with the Accomplishment Instructions of Airbus Mandatory Service Bulletin A340-28-5051, dated September 1, 2011.

(h) Credit for Previous Actions

This paragraph provides credit for the actions required by paragraph (g)(1) of this AD, if those actions were performed before the effective date of this AD, using Airbus Mandatory Service Bulletin A330-28-3113 or A340-28-4129, both dated July 19, 2011, as applicable.

(i) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to Attn: Vladimir Ulyanov, Aerospace Engineer, International Branch, ANM-116, Transport Airplane Directorate, FAA, 1601 Lind Avenue SW., Renton, WA 98057-3356; telephone 425-227-1138; fax 425-227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(j) Related Information

Refer to MCAI European Aviation Safety Agency (EASA) Airworthiness Directive 2011-0196, dated October 7, 2011, corrected March 23, 2012, and the service bulletins specified in paragraphs (j)(1), (j)(2), and (j)(3) of this AD, for related information.

(1) Airbus Mandatory Service Bulletin A330-28-3113, Revision 01, dated March 27, 2012.

(2) Airbus Mandatory Service Bulletin A340-28-4129, Revision 01, dated March 27, 2012.

(3) Airbus Mandatory Service Bulletin A340-28-5051, dated September 1, 2011.

(k) Material Incorporated by Reference

(1) The Director of the Federal Register approved the incorporation by reference (IBR) of the following service information under 5 U.S.C. 552(a) and 1 CFR part 51.

(2) You must use the following service information to do the actions required by this AD, unless the AD specifies otherwise.

(i) Airbus Mandatory Service Bulletin A330-28-3113, Revision 01, dated March 27, 2012.

(ii) Airbus Mandatory Service Bulletin A340-28-4129, Revision 01, dated March 27, 2012.

(iii) Airbus Mandatory Service Bulletin A340-28-5051, dated September 1, 2011.

(3) For service information identified in this AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com.

(4) You may review copies of the service information at the FAA, Transport Airplane Directorate, 1601 Lind Avenue SW., Renton, Washington. For information on the availability of this material at the FAA, call 425-227-1221.

(5) You may also review copies of the service information that is incorporated by reference at the National Archives and Records Administration (NARA). For information on the availability of this material at an NARA facility, call 202-741-6030, or go to http://www.archives.gov/federal_register/code_of_federal_regulations/ibr_locations.html.

Issued in Renton, Washington, on July 31, 2012.
Michael Kaszycki,
Acting Manager, Transport Airplane Directorate, Aircraft Certification Service.

[FR Doc. 2012-19262 Filed 8-13-12; 8:45 am]

BILLING CODE 4910-13-P